NUCLEAR REGULATORY COMMISSION

Office of New Reactors; Interim Staff Guidance on Assessment of Normal and Extreme Winter Precipitation Loads on the Roofs of Seismic Category I Structures

AGENCY: Nuclear Regulatory Commission (NRC).

ACTION: Solicitation of public comment.

SUMMARY: The NRC is soliciting public comment on its Proposed Interim Staff Guidance (ISG) DC/COL-ISG-07 (ADAMS Accession No. ML081980084). The purpose of this ISG is to clarify the NRC position on identifying winter precipitation events as site characteristics and site parameters for determining normal and extreme winter precipitation loads on the roofs of Seismic Category I structures. This ISG revises the previously issued staff guidance in March 2007 in the Standard Review Plan (SRP) NUREG-0080, “Standard Review Plan for the Review of Safety Analysis Reports for Nuclear Power Plants.” The NRC staff issues DC/COL-ISGs to facilitate timely implementation of the current staff guidance and to facilitate activities associated with review of applications for design certifications (DCs) and combined licenses (COLs) by the Office of New Reactors. The NRC staff will also incorporate the approved DC/COL-ISG-007 into the next revision of the SRP and related guidance documents.

DATES: Comments must be filed no later than 30 days from the date of publication of this notice in the Federal Register. Comments received after this date will be considered, if it is practical to do so, but the Commission is able to ensure consideration only for comments received on or before this date.

ADDRESSES: Comments may be submitted to: Chief, Rulemaking, Directives and Editing Branch, Office of Administration, U.S. Nuclear Regulatory Commission, Washington, DC 20555-0001.

Comments should be delivered to: 11545 Rockville Pike, Rockville, Maryland, Room T-6D59, between 7:30 a.m. and 4:15 p.m. on Federal workdays. Persons may also provide comments via e-mail at charles.cox@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Mr. Charles R. Cox, Siting and Accident Consequence Branch, Division of Siting and Environmental Reviews, Office of the New Reactors, U.S. Nuclear Regulatory Commission, Washington, DC 20555-0001; telephone 301-415-2003 or e-mail at charles.cox@nrc.gov.

SUPPLEMENTARY INFORMATION: The agency posts its issued staff guidance in the agency external Web page (http://www.nrc.gov/reading-rm/doc-collections/isg/).

The NRC staff is issuing this notice to solicit public comments on the proposed DC/COL-ISG-007. After the NRC staff considers any public comments, it will make a determination regarding the proposed DC/COL-ISG-007.

Dated at Rockville, Maryland, the 15th day of August 2008.
For the Nuclear Regulatory Commission.
Nanette Gilles,
Acting Branch Chief Rulemaking, Guidance and Advanced Reactors Branch, Division of New Reactor Licensing, Office of New Reactors.

[FR Doc. E8-19554 Filed 8-21-08; 8:45 am]

BILLING CODE 7590-01-P